DEPARTMENT OF TRANSPORTATION

Federal Aviation Administration

[Docket No. FAA-2023-0944]

Agency Information Collection Activities: Request for Comments; Clearance of a New Approval for Information Collection: Safety Management System Voluntary Program

AGENCY: Federal Aviation Administration (FAA), DOT.

ACTION: Notice and request for comments.

SUMMARY: In accordance with the Paperwork Reduction Act of 1995, the Federal Aviation Administration (FAA) invites public comments about our intention to request the Office of Management and Budget (OMB) approval for an information collection to support the analysis of safety data as part of the Safety Management System Voluntary Program (SMSVP). The data collected will be used by the FAA Flight Standards Service, Safety Management System Program Office (SMSPO) to evaluate certificate holders participating in the voluntary program. This Information Collection will enable the FAA to ensure conformity with the SMSVP Standard (voluntary program guidelines and performance measures).

DATES: Written comments should be submitted by September 18, 2023.

ADDRESSES: Please send written comments:

By Electronic Docket: www.regulations.gov (Enter docket number into search field)

By mail: Docket Management Facility, U.S. Department of Transportation, 1200 New Jersey Avenue SE, West Building, Room W12-140, Washington, DC 20590, between 9 a.m. and 5 p.m.

FOR FURTHER INFORMATION CONTACT: Sean C. Denniston, Flight Standards Safety Management System Program Office (AFS-910), Federal Aviation Administration, 800 Independence Ave. SW, 8W-624, Washington, DC 20591; by email at: sean.denniston@faa.gov; phone: 571-758-7362.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Safety Management System Voluntary Program.

Form Numbers: None.

Type of Review: New Information Collection.

Background: The International Civil Aviation Organization (ICAO) it its March 2006 Amendment No. 30 to Annex 6, Part I, International Commercial Air Transport—Aeroplanes, established an international standard requiring member states to mandate Safety Management Systems (SMS) for commercial operators. In July 2013, SMS requirements were transferred to a new ICAO Annex 19 Safety Management. (An Annex 19 second edition was issued in July 2016.) This Annex provided Member States the means to address safety risk proactively; support application of safety management in regulatory and infrastructure developments; and reinforce the role of the State in managing safety and in coordination with aviation product and service providers. The Aviation Safety and Federal Aviation Extension Act (2010) directed the FAA to initiate rulemaking requiring all certificate holders under 14 Code of Federal Regulations (CFR) part 119 authorized to conduct operations in accordance with the requirements of 14 CFR part 121 implement an SMS. On March 9, 2015, the final rule, Safety Management Systems for Domestic, Flag, and Supplemental Operations Certificate Holders, became effective (80 FR 1307; January 8, 2015) (hereafter “the 2015 final rule”). Three years later, on March 9, 2018, all air carriers authorized to conduct operations under 14 CFR part 121 met the final compliance date to have an SMS acceptable to the Administrator.

In 2018, the Flight Standards Service Safety Management System Voluntary Program (SMSVP) replaced an earlier SMS Pilot Project. While created concurrently with the 2015 final rule, SMSVP is a separate SMS initiative. Part 5 requires an SMS for air carriers authorized to conduct operations under part 121, while the SMSVP allows those not required by FAA to have an SMS to develop one. The reasons for this latter group developing an SMS include improving the safety of their aviation-related activities, facilitating international operations, reducing insurance premiums, client requirements, and enhanced organizational safety. The SMSVP has its own standard (voluntary program guidelines and performance measures) that must be successfully completed for an FAA accepted SMS.¹

¹ SMSVP guidance and requirements is found in Order 8900.1, Volume 17, Chapter 2 Voluntary Program.

The largest group of SMSVP certificate holders are those conducting operations under 14 CFR part 135, Operating Requirements: Commuter and On Demand Operations and Rules Governing Persons on Board Such Aircraft. However, there are other certificate holders that participate, as indicated in Table 1 below.

Respondents: As of September 2022, holders of the following operating certificates are participating in Safety Management System Voluntary Program:

Table 1—Operating Certificates in SMSVP
Operating certificate | Number of certificate holders
Part 133/137—Rotorcraft External Load/Agricultural Aircraft Operations | 5
Part 135—Commuter and On Demand | 126
Part 141/142—Pilot Schools/Training Centers | 6
Part 145—Repair Stations | 73
Number of Participants | ² 214

Frequency: A certificate holder taking part in the SMSVP may develop and implement an SMS in any manner it deems appropriate, but specific requirements and steps must be successfully completed for FAA SMS acceptance (“acceptance process”). A commitment letter is submitted with the application and is a statement of the company's top management to establish an SMS within the organization. A schedule of events (SOE) must be submitted by the certificate holder within 90 days of the commitment letter. The SOE commits certificate holder and FAA resources to the acceptance process. The certificate holder must also submit a compliance statement within 90 days of its commitment letter. The compliance statement addresses the SMSVP Standard and where its requirements are located in the certificate holder's manual system or documentation. The certificate holder may also utilize FAA SMS Custom Data Collection Tools (C DCT) to perform a self-assessment of its SMS development. The FAA uses both design validation (how SMS is planned) and design demonstration (how SMS functions) C DCTs for agency SMS acceptance.

² Three SMSVP participants possess more than one operating certificates totaling 214 certificates for 210 participants.

Upon successful completion of the validations and demonstrations, the FAA will issue a letter acknowledging applicant has an accepted SMS recognized by the FAA. FAA recognition also prepares an operator who aspires to meet the ICAO SMS requirements of a foreign civil aviation authority.

Estimated Average Burden per Response:

Respondents

³ Calculated as burden hours × average labor rate including benefits. The FAA used an average wage including benefits of $65.81, which is the mean average wage for Operations Research Analyst ($46.07) divided by the percent of total employer costs of employee compensation represented by wages (70%) to account for benefits. (30%). Wages and benefits information available at: https://www.bls.gov/oes/current/oes152031.htm.

Table 2—Summary of Annual Burden for 14 CFR 133 and 137 ³
Summary (annual numbers) | Reporting | Recordkeeping | Disclosure
# Of Respondents | 0 | 5 | 0
# Of Responses per respondent | 0 | 2 | 0
Time per Response (hours) | 0 | 8 | 0
Total # of responses | 0 | 10 | 0
Total burden (hours) | 0 | 160 | 0

Table 3—Summary of Annual Burden for 14 CFR 135
Summary (annual numbers) | Reporting | Recordkeeping | Disclosure
# Of Respondents | 0 | 126 | 0
# Of Responses per respondent | 0 | 2 | 0
Time per Response (hours) | 0 | 8 | 0
Total # of responses | 0 | 252 | 0
Total burden (hours) | 0 | 2,016 | 0

Table 4—Summary of Annual Burden for 14 CFR 141 and 142
Summary (annual numbers) | Reporting | Recordkeeping | Disclosure
# Of Respondents | 0 | 6 | 0
# Of Responses per respondent | 0 | 2 | 0
Time per Response (hours) | 0 | 8 | 0
Total # of responses | 0 | 12 | 0
Total burden (hours) | 0 | 96 | 0

Table 5—Summary of Annual Burden for 14 CFR 145
Summary (annual numbers) | Reporting | Recordkeeping | Disclosure
# Of Respondents | 0 | 73 | 0
# Of Responses per respondent | 0 | 2 | 0
Time per Response (hours) | 0 | 8 | 0
Total # of responses | 0 | 146 | 0
Total burden (hours) | 0 | 1,168 | 0

Labor Costs

Table 6—Estimated Labor Cost for Implementation of SMS in Voluntary Program
Hourly Wage | $65.81
Hours Year 1 | 16
Hours Year 2 | 8

Table 7—Summary of Annual Labor Cost
Develop initial implementation—Analysis labor cost | Year 1 | Year 2 (or completion)
14 CFR 133/137 | $5,265 | $2,632
14 CFR 135 | 132,673 | 66,336
14 CFR 141/142 | 6,318 | 3,159
14 CFR 145 | 76,866 | 38,433

Total capital and start-up components for a certificate holder in the SMSVP (90 days and until completion, on average two years) includes commitment letter, schedule of events, and compliance statement. These are necessary for a functioning Safety Management System. Certificate holders in the SMSVP need not start their SMS development from scratch. They are encouraged to conduct an analysis of their existing systems for possible integration into the SMS. The FAA sponsored Web-based Application Tool (WBAT) provides a platform to submit, manage, and analyze SMS related reports.

Material Costs

Estimated cost of schedule of events, compliance statement, and SMS documentation for an individual certificate holder particpating in SMSVP: ⁴

⁴ Based on data requirements and methods described in Order 8900.1, Volume 17, Safety Management System.

Table 8—Cost To Develop SMS Program Documentation
Develop documentation | Year 1 | 2-Year (to completion) cost
Part 133/137 | $8,000 | $16,000 2 years, and $8,000 each additional year.
Part 135 | 8,000 | $16,000 2 years, and $8,000 each additional year.
Part 141/142 | 8,000 | $16,000 2 years, and $8,000 each additional year.
Part 145 | 8,000 | $16,000 2 years, and $8,000 each additional year.

The FAA sponsors a Web-Based Application Tool (WBAT) certificate holders have the option of using for SMS development, data analysis, submitting information, and records management. WBAT offers three categories of service:

Table 9—Web-Based Application Tool ⁵
Category | Services | Cost
Platform | WBAT System delivery to Operator for purpose of supporting safety and reporting programs | No cost.
Platform Plus (+) | WBAT System delivery to Operator: • Unlimited help desk support during business hours. | Four level pricing tier based on number of active users.
| • Unlimited scheduled training by webinar and video on demand.
| • Discounted rates for user conferences.
| • Discounted rates for customization services.
| • Semiannual executive review of Operator's WBAT platform.
Enterprise Services | Platform Plus (+) subscribers can purchase support for one or more of the following services: • Aviation Safety Action Program (ASAP). | From unlimited no cost support to 50% discount, depending on requested service.
| • Flight Operational Quality Assurance (FOQA).
| • SMS Services (safety assurance, safety risk management, report processing).
| • Customization services at discounted rate (e.g., onsite training, networking engineering/web customization.
| WBAT services include analysis, tracking, documentation, and consultation.

Most certificate holders in the SMSVP have opted for WBAT Platform Plus (+) support.

⁵ Universal Technical Resource Services (UTRS) manages WBAT platform on behalf of FAA (www.wbatsafety.com).

Table 10—WBAT Costs
WBAT cost | Annual cost | Notes
Small Certificate Holder Tier 1 (1-100 active users) | $5,965/year | $3,000 discount if operator has a fully executed FAA Aviation System Action program (ASAP) Memorandum of Understanding (MOU).
Medium Certificate Holder Tier 2 (101-250 active users) | $8,675/year | $3,000 discount if operator has a fully executed FAA ASAP MOU.
Medium Certificate Holder Tier 3 (251-700 active users) | $15,180/year | $3,000 discount if operator has a fully executed FAA ASAP MOU.
Large Certificate Holder Tier 4 (>700 active users) | $15,180 + $10 additional user/year | $3,000 discount if operator has a fully executed FAA ASAP MOU.

Table 11—WBAT Cost if ASAP Is Required
Tier 1 (1-50 participants) | $3,000/year | Additional one-time $750 ASAP Service set-up fee.
Tier 2 (51-100 participants) | $6,000 + $50 per participant >100/year | Additional one-time $750 ASAP Service set-up fee.

Table 12—WBAT Cost if FOQA Is Required
Tier 1 (Basic) | $15,000/year | Cost does not include initial data mapping.
Tier 2 (Premium) | $40,000/year | Cost does not include initial data mapping.

WBAT premium support is charged by number of active users in the operator's organization.

The cost burden in implementing an SMS in the SMSVP depends on the organization's operating certificate and number of aviation related employees. The FAA estimates that the initial cost burden for a new part 133/137, part 135, part 141/142, part 145 ranges between $31,695 and $69,180. The initial cost burden is related to commitment letter/entry into program, schedule of events, compliance statement, and related documentation (e.g., manuals, training, self-assessment, and validation).

Issued in Washington, DC.
Wesley L. Mooty,
Acting Deputy Executive Director, Flight Standards Service.

[FR Doc. 2023-15203 Filed 7-18-23; 8:45 am]

BILLING CODE 4910-13-P